NUCLEAR REGULATORY COMMISSION

Advisory Committee on Reactor Safeguards (ACRS); Subcommittee Meeting on Thermal-Hydraulic Phenomena; Notice of Meeting

The ACRS Subcommittee on Thermal-Hydraulic Phenomena will hold a meeting on May 15-16, 2007, Commissioners' Conference Room O-1G16, 11555 Rockville Pike, Rockville, Maryland.

The entire meeting will be open to public attendance.

The agenda for the subject meeting shall be as follows:

Tuesday, May 15, 2007—8:30 a.m. until the conclusion of business.

Wednesday, May 16, 2007—8:30 a.m. until the conclusion of business.

The Subcommittee will hear from the NRR staff and the Nuclear Energy Institute regarding the progress in resolving GSI-191, “PWR Sump Performance.” The Subcommittee will gather information, analyze relevant issues and facts, and formulate proposed positions and actions, as appropriate, for deliberation by the full Committee.

Members of the public desiring to provide oral statements and/or written comments should notify the Designated Federal Official, Ms. Zena Abdullahi (Telephone: 301-415-2808) five days prior to the meeting, if possible, so that appropriate arrangements can be made. Electronic recordings will be permitted.

Further information regarding this meeting can be obtained by contacting the Designated Federal Official between 7:30 a.m. and 4:15 p.m. (ET). Persons planning to attend this meeting are urged to contact the above named individual at least two working days prior to the meeting to be advised of any potential changes to the agenda.

Dated: April 25, 2007.
Cayetano Santos,
Branch Chief, ACRS.

[FR Doc. E7-8298 Filed 5-1-07; 8:45 am]

BILLING CODE 7590-01-P